DEPARTMENT OF HOMELAND SECURITY

Coast Guard

33 CFR Part 165

[Docket Number USCG-2017-0886]

RIN 1625-AA00

Safety Zone; Roanoke River, Plymouth, NC

AGENCY: Coast Guard, DHS.

ACTION: Temporary final rule.

SUMMARY: The Coast Guard is establishing a temporary safety zone for one mile of navigable waters of the Roanoke River in Plymouth, North Carolina. This temporary safety zone is intended to restrict vessel traffic from a portion of the Roanoke River during the Virginia Outlaw Drag Boat Association End of the Year Showdown high speed boat race. This action is intended to restrict vessel traffic movement in the regulated area to protect participants, spectators, and property from the hazards posed by high speed boat races. Entry of vessels or persons into this safety zone is prohibited unless specifically authorized by the Captain of the Port (COTP), North Carolina or a designated representative.

DATES: This rule is effective from 11 a.m. on October 7, 2017, through 6 p.m. on October 8, 2017.

ADDRESSES: To view documents mentioned in this preamble, go to http://www.regulations.gov, type USCG-2017-0886 in the “SEARCH” box and click “SEARCH.” Click on Open Docket Folder on the line associated with this rule.

FOR FURTHER INFORMATION CONTACT: If you have questions on this rule, contact Petty Officer Matthew Tyson, Waterways Management Division, U.S. Coast Guard Sector North Carolina, Wilmington, NC; telephone: 910-772-2221, email: Matthew.I.Tyson@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background Information and Regulatory History

The Coast Guard is issuing this temporary rule without prior notice and opportunity to comment pursuant to authority under section 4(a) of the Administrative Procedure Act (APA) (5 U.S.C. 553(b)). This provision authorizes an agency to issue a rule without prior notice and opportunity to comment when the agency for good cause finds that those procedures are impracticable, unnecessary, or contrary to the public interest. Under 5 U.S.C. 553(b)(B), the Coast Guard finds that good cause exists for not publishing a notice of proposed rulemaking (NPRM) with respect to this rule. The Coast Guard was not notified of the need for this rule until September 13, 2017. It is impracticable and contrary to the public interest to delay this action. Waiting for a comment period to run would inhibit the Coast Guards' ability to protect the public and participants from the dangers associated with the high speed boat race scheduled on October 7 and October 8, 2017.

Under 5 U.S.C. 553(d)(3), the Coast Guard finds that good cause exists for making this temporary rule effective less than 30 days after publication in the Federal Register. Immediate implementation is required to protect the public and participants from the dangers associated with these activities.

III. Legal Authority and Need for Rule

The Coast Guard is issuing this rule under authority in 33 U.S.C. 1231. The COTP North Carolina has determined that potential hazards associated with the Virginia Outlaw Drag Boat Association End of the Year Showdown scheduled on October 7 and October 8, 2017, is a safety concern for mariners during the high speed boat race on the Roanoke River in Plymouth, North Carolina. This rule is necessary to protect persons and vessels from the potential hazards associated with the high speed boat race.

IV. Discussion of the Rule

This rule establishes a safety zone which will be enforced for portions of the day on October 7 and October 8, 2017, on the navigable waters of the Roanoke River in Plymouth, North Carolina. The safety zone will include all navigable waters from approximate positions: Latitude 35°52′25″ N., longitude 076°44′33″ W., then northwest to latitude 35°52′29″ N., longitude 076°44′37″ W., then southwest along the shoreline to latitude 35°52′00″ N., longitude 076°45′31″ W., then south to latitude 35°51′56″ N., longitude 076°45′30″ W., then northeast along the shoreline to the point of origin, on the Roanoke River, Plymouth, North Carolina. This safety zone will be established for the safety of mariners and participants during the high speed boat race. For safety reasons, no public spectators will be allowed to view the event from the waterway. Vessel traffic will be able to pass through the safety zone between race sets with permission. No vessel or person will be permitted to enter the safety zone without obtaining permission from the COTP North Carolina or a designated representative.

V. Regulatory Analyses

We developed this rule after considering numerous statutes and Executive orders related to rulemaking. Below we summarize our analyses based on a number of these statutes and executive orders, and we discuss First Amendment rights of protestors.

A. Regulatory Planning and Review

Executive Orders 12866 and 13563 direct agencies to assess the costs and benefits of available regulatory alternatives and, if regulation is necessary, to select regulatory approaches that maximize net. Executive Order 13771 directs agencies to control regulatory costs through a budgeting process. This rule has not been designated a “significant regulatory action,” under Executive Order 12866. Accordingly, the rule has not been reviewed by the Office of Management and Budget (OMB), and pursuant to OMB guidance it is exempt from the requirements of Executive Order 13771.

This regulatory action determination is based on the size, location, and duration of the safety zone. The regulation enforcement period, approximately seven hours per day for two consecutive days, should not overly burden vessel traffic given its short duration. This safety zone will impact a one mile segment of the Roanoke River, Plymouth, NC. Additionally, the rule allows for vessel operators to request permission from the COTP North Carolina or the designated representative to enter and transit through the safety zone. The Coast Guard will issue a Broadcast Notice to Mariners to notify vessels in the region of the establishment of this regulation.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While the precise number of small entities impacted is unknown, the Roanoke River has a low number of vessels transiting the area planned for the safety zone during the enforcement period. Although some owners or operators of vessels intending to transit the safety zone may be small entities, for the reasons stated in section V.A. above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01 and Commandant Instruction M16475.lD, which guide the Coast Guard in complying with the National Environmental Policy Act of 1969 (42 U.S.C. 4321-4370f), and have determined that this action is one of a category of actions that do not individually or cumulatively have a significant effect on the human environment. This rule involves a safety zone lasting 7 hours per day on two consecutive days that prohibits entry into a portion of Roanoke River, Plymouth, NC. It is categorically excluded from further review under paragraph 34(g) of Figure 2-1 of Commandant Instruction M16475.lD. A Record of Environmental Consideration supporting this determination is available in the docket where indicated under ADDRESSES.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

2. Add § 165.T05-0886 to read as follows:

§ 165.T05-0886 Safety Zone, Roanoke River Plymouth, NC.

(a) Location. The following area is a safety zone: All navigable from approximate positions: Latitude 35°52′25″ N., longitude 076°44′33″ W., then northwest to latitude 35°52′29″ N., longitude 076°44′37″ W., then southwest along the shoreline to latitude 35°52′00″ N., longitude 076°45′31″ W., then south to latitude 35°51′56″ N., longitude 076°45′30″ W. (WGS 84), then northeast along the shoreline to the point of origin, on the Roanoke River, Plymouth, North Carolina.

(b) Definitions. As used in this section, “designated representative” means a Coast Guard Patrol Commander, that includes a Coast Guard commissioned, warrant or petty officer designated by the Captain of the Port North Carolina (COTP) for the enforcement of the safety zone. “Captain of the Port” means the Commander, Coast Guard Sector North Carolina. “Participants” means persons and vessels involved in the high speed boat race.

(c) Regulations. (1) The general regulations governing safety zones in § 165.23 apply to the area described in paragraph (a) of this section.

(2) With the exception of participants, entry into or remaining in this safety zone is prohibited unless authorized by the COTP North Carolina or the COTP North Carolina's designated representative. All vessels within this safety zone when this section becomes effective must depart the zone immediately.

(3) To request permission to remain in, enter, or transit through the safety zone, contact the COTP North Carolina or the COTP North Carolina's representative through the Coast Guard Sector North Carolina Command Duty Officer, Wilmington, North Carolina, at telephone number 910-343-3882 or on VHF-FM marine band radio channel 13 (165.65 MHz) or channel 16 (156.8 MHz).

(d) Enforcement. The U.S. Coast Guard may be assisted in the patrol and enforcement of the safety zone by Federal, State, and local agencies.

(e) Enforcement period. This section will be enforced from 11 a.m. through 6 p.m. daily on October 7 and October 8, 2017.

Dated: September 27, 2017.
Bion B. Stewart,
Captain, U.S. Coast Guard, Captain of the Port, North Carolina.

[FR Doc. 2017-21100 Filed 10-2-17; 8:45 am]

BILLING CODE 9110-04-P